DEPARTMENT OF HEALTH AND HUMAN SERVICES

Health Resources and Services Administration

Agency Information Collection Activities: Proposed Collection: Public Comment Request; Information Collection Request Title: DoNation General Workplace Campaign Scorecard, 0906-XXXX—New

AGENCY: Health Resources and Services Administration (HRSA), Department of Health and Human Services.

ACTION: Notice.

SUMMARY: In compliance with the requirement for the opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than November 8, 2021.

ADDRESSES: Submit your comments to paperwork@hrsa.gov or by mail to the HRSA Information Collection Clearance Officer, Room 14N136B, 5600 Fishers Lane, Rockville, Maryland 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the ICR title for reference.

Information Collection Request Title: DoNation General Workplace Campaign Scorecard, OMB No. 0906-XXXX—New.

Abstract: HRSA's DoNation General Workplace Campaign for Organ Donation will enlist the help of America's workplaces to increase the number of registered organ, eye, and tissue donors by hosting awareness, education, outreach, and donor registration events in their companies, workplaces, and communities. This campaign would be in addition to HRSA's Hospital Campaign, which encourages America's medical facilities and hospitals to promote organ, eye, and tissue donor registrations. A scorecard identifies activities that participants can implement and assigns points to each activity. Participants that earn a certain number of points annually will be recognized by HHS/HRSA and other national organizations that support the campaign's mission. HRSA intends to create an electronic version of the scorecard that will be user-friendly and will collect information from America's workplaces regarding their donor registration and outreach activities. The scorecard will provide HRSA with data throughout the campaign year.

Need and Proposed Use of the Information: There is a substantial imbalance in the U.S. between the number of people whose life depends on an organ transplant (approximately 107,000 people on the national transplant waiting list) and the annual number of organ transplants (approximately 39,000 living and deceased donors in 2020). In response to the need for more organ donors, HRSA conducts public outreach initiatives to encourage the American public to enroll in their state donor registry as future organ, eye, and tissue donors.

The scorecard motivates and facilitates participation in the campaign, provides the basis for rewarding participants for their accomplishments, and enables HRSA to measure and evaluate the campaign process and outcome. The scorecard also enables HRSA to make data-based decisions and improvements for subsequent campaigns.

Likely Respondents: Community development and public relations staff of organ procurement and other donation organizations, general workplace staff and/or leadership, such as human resources or public relations/communications professionals and other staff members, and/or volunteers who work with workplaces and organizations on organ donation initiatives.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Activity Scorecard (online) | 150 | 1 | 150 | .25 | 37.5
Total | 150 |  | 150 |  | 37.5

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2021-19313 Filed 9-3-21; 8:45 am]

BILLING CODE 4165-15-P